DEPARTMENT OF THE INTERIOR

National Park Service

[NPS-NER-NEEN-FR00000057; PPNENEEN00/PPMPSAS1Z.Y00000]

Selection of the Route of the New England National Scenic Trail and Publication of the Land Protection Plan

AGENCY: National Park Service, Interior.

ACTION: Notice.

SUMMARY: Pursuant to the National Trails System Act, the National Park Service is publishing notice of its selection of the New England National Scenic Trail route and a Land Protection Plan for said route. Congress established the trail in 2009, which has been in use as a long-distance trail since the 1950s.

DATES: The effective date of this route selection is June 21, 2023.

ADDRESSES: This Federal Register notice announces the route for the New England National Scenic Trail following the routes generally depicted on the map referenced in the Act. The legislative map depicting this route is available for inspection at the following locations: National Park Service, Land Resources Program Center, Interior Region 1, 1234 Market Street, 20th Floor, Philadelphia, PA 19107 and National Park Service, Department of the Interior, 1849 C Street NW, 2nd Floor, Room 2342 (MIB 2340), Washington, DC 20240. The route is depicted in more detail in the National Park Service Geographic Information System database as the “NEEN_BND_NationalScenicTrailCenterline_ln,” updated April 7, 2023, and listed as the Authoritative Feature Layer, published, and managed by the National Park Service, which is available at https://www.arcgis.com/home/item.html?id=2732c458d1d64bfda9b0bbc82de8cc7e.

FOR FURTHER INFORMATION CONTACT: Kelly Fellner, Superintendent; New England National Scenic Trail; National Park Service; One Armory Square, Suite 2, Springfield, MA 01105; via email at kelly_fellner@nps.gov; or via phone at (413) 734-8551.

SUPPLEMENTARY INFORMATION: In 2009, Congress established the New England National Scenic Trail as a component of the National Trails System as part of Public Law 111-11, Sect. 5202 (Act) which amended the National Trails System Act to include the trail. The law references the trail route as generally depicted on legislated Map No. T06/80,000, dated October 2007. The map indicates an extension to the Long Island Sound, which was approved as part of the designation. Prior to designation, the New England Trail had been continuous in its entirety and in use as a long-distance trail since the 1950s. Post designation, the Long Island Sound extension was completed, as well as other minor relocations to comply with landowner requests. The trail route has been largely unchanged since its ten-year anniversary in 2019.

Pursuant to 16 U.S.C. 1244(a) and 1246(a)(2), the Secretary of the Interior must select the route for the trail and publish notice of the availability of appropriate maps or descriptions in the Federal Register.

To guide the protection of this trail route, legislated trail partners in Connecticut and Massachusetts, the Connecticut Forest & Park Association and Appalachian Mountain Club respectively, conducted various land protection planning efforts and held workshops with interested stakeholders between 2018 and 2022, resulting in a trail protection strategy in each state. Stakeholders participating included state and local government agencies, nonprofit organizations, land trusts, and private entities. The National Park Service has combined these two strategies, including additional information required by policy and various Federal Register notices into a trailwide Land Protection Plan. This Land Protection Plan provides the local criteria, data, and prioritization process for working with willing sellers and partners to protect the trail using various methods. The plan is available at https://www.nps.gov/neen/learn/management/land-protection-plan.htm.

Gay Vietzke,
Regional Director, Interior Region 1.

[FR Doc. 2023-13158 Filed 6-20-23; 8:45 am]

BILLING CODE 4312-52-P